DEPARTMENT OF TRANSPORTATION

Surface Transportation Board

[STB Finance Docket No. 34664]

Keokuk Junction Railway Co.—Trackage Rights Exemption—Union Pacific Railroad Company

Union Pacific Railroad Company (UP), pursuant to a written trackage rights agreement entered into between UP and Keokuk Junction Railway Co. (KJRY), has agreed to grant overhead trackage rights to KJRY between Hollis, Peoria County, IL (milepost 118.5), and Iowa Junction, Peoria County, IL (milepost 113.6), a total distance of approximately 5.0 miles. KJRY will operate its own trains with its own crews over the UP line under the trackage rights. The purpose of this transaction will be to allow KJRY to interchange traffic with the Tazewell & Peoria Railroad, Inc. (TZPR), by bridging KJRY trains from Hollis to the TZPR at Iowa Junction.

KJRY indicated that consummation of this transaction was scheduled to occur on February 16, 2005, and that operations would commence thereafter.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34664, must be filed with the Surface Transportation Board, 1925 K Street, NW., Washington, DC 20423-0001. In addition, a copy of each pleading must be served on Daniel A. LaKemper, 1318 S. Johanson Road, Peoria, IL 61607.

Board decisions and notices are available on our Web site at http://www.stb.dot.gov.

Decided: February 22, 2005.
By the Board, David M. Konschnik, Director, Office of Proceedings.
Vernon A. Williams,
Secretary.

[FR Doc. 05-3885 Filed 2-28-05; 8:45 am]

BILLING CODE 4915-01-P